DEPARTMENT OF COMMERCE

National Oceanic and Atmospheric Administration

[I.D. 051203C]

Fisheries of the Caribbean, Gulf of Mexico, and South Atlantic; Reef Fish Fishery of the Gulf of Mexico; Coastal Migratory Pelagic Resources of the Gulf of Mexico and South Atlantic; Gulf of Mexico Fishery Management Council; Public Hearings

AGENCY: National Marine Fisheries Service (NMFS), National Oceanic and Atmospheric Administration (NOAA), Commerce.

ACTION: Notice of public hearings; request for comments.

SUMMARY: The Gulf of Mexico Fishery Management Council (Council) will convene public workshops on collecting information about vessel expenses and earnings in the Gulf of Mexico reef fish and coastal pelagics (mackerel) fisheries.

DATES: The public workshops will be held in May and June. See SUPPLEMENTARY INFORMATION for specific dates and times.

ADDRESSES: Written comments should be sent to, and copies of the scoping document are available from, the Council, 3018 U.S. Highway 301, North, Suite 1000, Tampa, FL 33619.

For specific location regarding the public workshops, see SUPPLEMENTARY INFORMATION.

FOR FURTHER INFORMATION CONTACT: Dr. Antonio Lamberte, Senior Economist, Gulf of Mexico Fishery Management Council; telephone: (813) 228-2815.

SUPPLEMENTARY INFORMATION: The Council will conduct workshops on collecting information about vessel expenses and earnings in the Gulf of Mexico reef fish and coastal pelagics (mackerel) fisheries. The main goal of the workshops is to solicit the views of participants on the importance and necessity of collecting vessel and trip level information on expenses and earnings. In addition, participants will be asked for their views on the methods of collecting such information.

Vessel expenses and earnings, also known as cost and returns, information is extremely important as it allows the Council to have a better understanding of the economic impacts of proposed management actions while they are still under consideration. In addition, several laws such as the Magnuson-Stevens Fishery Conservation and Management Act, National Environmental Policy Act, Regulatory Flexibility Act, and Executive Order 12866 require the use of economic information in the deliberation and formulation of regulations. Fishery participants' views regarding the nature and collection of this information are critical so that at the time it is collected, assembled, and analyzed a more credible picture of the economic condition of the fishery will be depicted and used in the management process.

Council staff, with the assistance of NMFS staff, will conduct the workshops. All workshops will begin at 6 p.m. local time and conclude at about 9 p.m. at the following locations and dates:

1. Tuesday, May 27, 2003, Four Points Hotel by Sheraton, 1325 Miracle Strip Parkway, Fort Walton Beach, FL 32548; telephone: 850-796-3815;

2. Wednesday, May 28, 2003, Adam's Mark Hotel, 64 South Water Street, Mobile, AL 36602; telephone: 251-438-4000;

3. Thursday, May 29, 2003, Mississippi Department of Marine Resources, 1141 Bayview Avenue, Biloxi, MS 39530; telephone: 228-374-5000;

4. Monday, June 2, 2003, Texas City Department of Recreation &Tourism, Nessler Center, 2010 5th Avenue North, Texas City, TX 77590; telephone: 409-643-5990;

5. Tuesday, June 3, 2003, Lake Jackson Library, 250 Circle Way, Lake Jackson, TX 77566; telephone: 979-297-1271;

6. Wednesday, June 4, 2003, Matagorda Volunteer Fire Department, P. O. Box 70, Matagorda, TX 77457; telephone: 979-863-7551;

7. Thursday, June 5, 2003, Holiday Inn Beachside Key West, 3841 N. Roosevelt Blvd, Key West, FL 33040; telephone: 305-294-2571;

8. Friday, June 6, 2003, La Quinta Inn Fort Myers, 4850 S. Cleveland Avenue, Fort Myers, FL 33907; telephone: 941-275-3300;

9. Monday, June 9, 2003, City of Madeira Beach, 300 Municipal Drive, Madeira Beach, FL 33708; telephone: 727-391-9951;

10. Wednesday, June 11, 2003, Larose Civic Center, 307 East 5th Street, Larose, LA 70373; telephone: 985-693-7355;

11. Thursday, June 12, 2003, Police Jury Annex, 110 Smith Circle, Cameron, LA 70631; telephone: 333-775-5718; and

12. Friday, June 13, 2003, Hilton New Orleans Airport, 901 Airline Drive, Kenner, LA 70062; telephone: 504-469-5000.

These meetings are physically accessible to people with disabilities. Requests for sign language interpretation or other auxiliary aids should be directed to Anne Alford at the Council (see ADDRESSES).

Dated: May 21, 2003.
Bruce C. Morehead,
Acting Director, Office of Sustainable Fisheries, National Marine Fisheries Service.

[FR Doc. 03-13276 Filed 5-27-03; 8:45 am]

BILLING CODE 3510-22-S